DEPARTMENT OF DEFENSE

Office of the Secretary

[Transmittal No. 23-06]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-06, Policy Justification, and Sensitivity of Technology.

Dated: September 9, 2024.
Aaron T. Siegel,
Alternate OSD Federal Register Liaison Officer, Department of Defense.

BILLING CODE 6001-FR-P

BILLING CODE 6001-FR-C

Transmittal No. 23-06

Notice of Proposed Issuance of Letter of Offer Pursuant to Section 36(b)(1) of the Arms Export Control Act, as amended

(i) Prospective Purchaser: Government of Romania

(ii) Total Estimated Value:

Major Defense Equipment * | $47.0 million
Other | $57.0 million
TOTAL | $104.0 million

Funding Source: National Funds

(iii) Description and Quantity or Quantities of Articles or Services Under Consideration for Purchase: Foreign Military Sales (FMS) case RO-B-UFL, was below congressional notification threshold at $43.73 million ($11.41 million in MDE) and included thirty-four (34) Heavy Gun Carriers Joint Light Tactical Vehicles (JLTVs). The Government of Romania has requested the case be amended to include an additional ninety-five (95) Heavy Gun Carriers JLTVs. This amendment will push the current case above the MDE and total case value notification thresholds and thus requires notification of the entire case.

Major Defense Equipment (MDE):

One hundred twenty-nine (129) M1278A1 Heavy Gun Carriers Joint Light Tactical Vehicles (JLTVs)

Non-MDE:

Also included are VRC-104 radio kits; VRC-114 radio kits; baseline integration kits; basic issue items; Defense Advanced GPS Receivers (DAGRs); DAGR integration kits; network switch ports; exportable power kits; silent watch energy storages; power expansion kits; RF7800i intercom kits; combat bumper kits; winch kits; flat tow kits; run flat kits; spare tire kits; commander supply display units; improved turret drive systems; M1114 turret ring hatches; 2-year contractor spare parts package; technical assistance; total package fielding; technical publications/manuals; and other related elements of logistics and program support.

(iv) Military Department: Army (RO-B-UFL)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: March 14, 2023

* As defined in Section 47(6) of the Arms Export Control Act.

POLICY JUSTIFICATION

Romania—M1278A1 Heavy Gun Carriers Joint Light Tactical Vehicles (JLTVs)

The Government of Romania has requested to buy an additional ninety-five (95) Heavy Gun Carriers Joint Light Tactical Vehicles (JLTVs). This amendment will push the current case above the MDE and total case value notification thresholds and thus requires notification of the entire case. The original FMS case, valued at $43.73 million, included thirty-four (34) Heavy Gun Carriers JLTVs. Therefore, this notification is for a total of one hundred twenty-nine (129) M1278A1 Heavy Gun Carriers Joint Light Tactical Vehicles. Also included are VRC-104 radio kits; VRC-114 radio kits; baseline integration kits; basic issue items; Defense Advanced GPS Receivers (DAGRs); DAGR integration kits; network switch ports; exportable power kits; silent watch energy storages; power expansion kits; RF7800i intercom kits; combat bumper kits; winch kits; flat tow kits; run flat kits; spare tire kits; commander supply display units; improved turret drive systems; M1114 turret ring hatches; 2-year contractor spare parts package; technical assistance; total package fielding; technical publications/manuals; and other related elements of logistics and program support. The total estimated cost is $104.0 million.

This proposed sale will support the foreign policy goals and national security objectives of the United States by improving the security of a NATO Ally that is a force for political stability and economic progress in Europe.

The proposed sale will improve Romania's capability to meet current and future threats by providing a credible force that is capable of deterring adversaries and enhance its participation in NATO operations. Romania will have no difficulty absorbing this equipment into its armed forces.

The proposed sale of this equipment and support will not alter the basic military balance in the region.

The principal contractors will be Oshkosh Corporation, Oshkosh, WI, and Oshkosh Defense, LLC, Oshkosh, WI. There are no known offset agreements proposed in connection with this potential sale.

Implementation of this sale will not require the assignment of any U.S. Government or contractor representatives to Romania.

There will be no adverse impact on U.S. defense readiness as a result of this proposed sale.

Transmittal No. 23-06

Notice of Proposed Issuance of Letter of Offer Pursuant to Section 36(b)(1) of the Arms Export Control Act

Annex

Item No. vii

(vii) Sensitivity of Technology:

1. The Joint Light Tactical Vehicle (JLTV) program is a light tactical vehicle designed to replace the U.S. Military's aging High Mobility Multipurpose Wheeled Vehicle fleet. It was designed to close the existing gap in payload, performance, and protection to our adversaries during multi-domain operations. It has been an operationally optimal choice for the light tactical vehicle mission spectrum anywhere in the world. All JLTV mission variants include a strong balance of protection, maneuverability, speed, reliability, and combat support/combat service support capability that far surpasses any similar vehicle developed in its weight class today.

2. The JLTV is designed to be a system of systems. System of systems is a “set or arrangement of systems that results when independent and useful systems are integrated into a larger system that delivers unique capabilities. The Joint Light Tactical Vehicle allows material and equipment from authorized contractors or industrial facilities used by U.S. forces in tactical operations and managed by other Program Offices.

3. The JLTV has inherent armor built into the base vehicle. It is what the US Government (USG) calls A-Kit armor. This A-Kit Inherent armor provides both opaque and transparent armor solutions to provide a 360-degree azimuthal (i.e., all around) to include an elevated fire level of protection from a spectrum of kinetic energy/small arms fire threats with survivability enhancements to include Automatic Fire Extinguishing Protection (AFES) and structural rollover protection of 150% of the vehicle Ground Vehicle Weight Rating (GVWR).

4. The highest level of classification of defense articles, components, and services included in this potential sale is SECRET.

5. If a technologically advanced adversary were to obtain knowledge of the hardware and software elements, the information could be used to develop countermeasures or equivalent systems which might reduce system effectiveness or be used in the development of a system with similar or advanced capabilities.

6. A determination has been made that the Government of Romania can provide substantially the same degree of protection for the sensitive technology being released as the U.S. Government. This sale is necessary in furtherance of the U.S. foreign policy and national security objectives outlined in the Policy Justification.

7. All defense articles and services listed in this transmittal are authorized for release and export to the Government of Romania.

[FR Doc. 2024-20731 Filed 9-11-24; 8:45 am]

BILLING CODE 6001-FR-P